Proclamation 10485 of October 31, 2022

National Alzheimer's Disease Awareness Month, 2022

By the President of the United States of America

A Proclamation

During National Alzheimer's Disease Awareness Month, we honor and support the millions of brave Americans who have been diagnosed with Alzheimer's, along with the selfless family members and caregivers who stand by their sides throughout the long course of this heartbreaking disease.

Alzheimer's is common and especially cruel, robbing people of their memories, thoughts, and identity over many years. Across the Nation, this epidemic is growing: In the next 30 years, the number of Americans with Alzheimer's is expected to reach nearly 14 million, straining families and our health care system. Fortunately, we are on the cusp of life-saving advances that can forever change the course of the disease.

This year, my Administration launched the transformational Advanced Research Projects Agency for Health (ARPA-H) at the National Institutes of Health, which is investing a billion dollars in cutting-edge research to prevent, treat, and cure Alzheimer's and other deadly diseases. Modeled on the Pentagon program that brought us game-changing technologies like the internet and GPS, ARPA-H will support bold ideas that neither traditional research nor the private sector is willing to pursue, driving new biomedical breakthroughs. At the same time, the Department of Health and Human Services is investing in research and technology that can keep Alzheimer's patients living longer in their own homes; training caregivers to support them; and educating Americans about early warning signs of Alzheimer's, dementia risks, and brain health generally. Meanwhile, I signed the Inflation Reduction Act, which will protect Alzheimer's patients from high bills at the pharmacy by capping what they pay at $2,000 per year. Throughout our work, my Administration is committed to keeping older Black and Brown Americans, who are more than twice as likely to be affected by dementias, at the center of our push to understand these diseases.

Curing Alzheimer's is not a partisan issue. The disease does not discriminate between red and blue. Beating it is something we can do together, in honor of the loved ones we have lost or those who are slipping away, and in support of the remarkable caregivers, doctors, researchers, and advocates who are fighting on their behalf today. Our Nation is on the cusp of tremendous scientific progress, and I pledge the best of our energies to support caregivers, improve Alzheimer's treatments, and work towards a cure that will free future generations from the specter of this disease.

NOW, THEREFORE, I, JOSEPH R. BIDEN JR., President of the United States of America, by virtue of the authority vested in me by the Constitution and the laws of the United States, do hereby proclaim November 2022 as National Alzheimer's Disease Awareness Month. I call on the people of the United States of America to recognize their fellow citizens living with Alzheimer's, along with their families and caregivers. I also encourage all Americans to visit Alzheimers.gov for resources and information on living with or caring for someone with Alzheimer's disease.

IN WITNESS WHEREOF, I have hereunto set my hand this thirty-first day of October, in the year of our Lord two thousand twenty-two, and of the Independence of the United States of America the two hundred and forty-seventh.

[FR Doc. 2022-24161

Filed 11-2-22; 11:15 am]

Billing code 3395-F3-P